ENVIRONMENTAL PROTECTION AGENCY

48 CFR Parts 1504, 1509, 1511, 1516, 1522, 1523, 1528, and 1552

[EPA-HQ-OARM-2013-0294 FRL 9837-4]

Administrative Revisions to EPAAR

AGENCY: Environmental Protection Agency.

ACTION: Direct final rule.

SUMMARY: The EPA is taking direct final action on administrative changes to the EPA Acquisition Regulation (EPAAR). This action revises the EPAAR, but does not impose any new requirements on Agency contractors. The revisions in this direct final rule will make minor corrections to and streamline Agency acquisition processes to be consistent with and non-duplicative of the Federal Acquisition Regulation (FAR). EPA is issuing a final rule because the changes are administrative in nature and does not anticipate receiving adverse comments.

DATES: This rule is effective September 30, 2013 without further action, unless adverse comment is received by August 30, 2013. If adverse comment is received, the EPA will publish a timely withdrawal of the rule in the Federal Register.

ADDRESSES: Submit your comments, identified by Docket ID No. EPA-HQ-OARM-2013-0294, by one of the following methods:

• http://www.regulations.gov: Follow the on-line instructions for submitting comments.

• Email: docket.oei@epa.gov.

• Fax: (202) 566-1753.

• Mail: EPA-HQ-OARM-2013-0294, OEI Docket, Environmental Protection Agency, 2822T, 1200 Pennsylvania Ave. NW., Washington, DC 20460. Please include a total of three (3) copies.

• Hand Delivery: EPA Docket Center-Attention OEI Docket, EPA West, Room B102, 1301 Constitution Ave. NW., Washington, DC 20004. Such deliveries are only accepted during the Docket's normal hours of operation, and special arrangements should be made for deliveries of boxed information.

Instructions: Direct your comments to Docket ID No. EPA-HQ-OARM-2013-0294. EPA's policy is that all comments received will be included in the public docket without change, and may be made available online at http://www.regulations.gov, including any personal information provided, unless the comment includes information claimed to be Confidential Business Information (CBI) or other information whose disclosure is restricted by statute. Do not submit information that you consider to be CBI or otherwise protected through http://www.regulations.gov or email. The http://www.regulations.gov Web site is an “anonymous access” system, which means EPA will not know your identity or contact information unless you provide it in the body of your comment. If you send an email comment directly to EPA without going through www.regulations.gov, your email address will be automatically captured and included as part of the comment that is placed in the public docket, and made available on the Internet. If you submit an electronic comment, EPA recommends that you include your name and other contact information in the body of your comment, and with any disk or CD-ROM you submit. If EPA cannot read your comment due to technical difficulties, and cannot contact you for clarification, EPA may not be able to consider your comment. Electronic files should avoid the use of special characters, any form of encryption, and be free of any defects or viruses. For additional information about EPA's public docket, visit the EPA Docket Center homepage at http://www.epa.gov/epahome/dockets.htm.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov Federal Register, or in hard copy at the Government Property-Contract Property Administration Docket, EPA/DC, EPA West, Room 3334, 1301 Constitution Ave. NW., Washington, DC. The Public Reading Room is open from 8:30 a.m. to 4:30 p.m., Monday through Friday, excluding legal holidays. The telephone number for the Public Reading Room is (202) 566-1744, and the telephone number for the EPA Docket Center is (202) 566-1752. This Docket Facility is open from 8:30 a.m. to 4:30 p.m., Monday through Friday, excluding legal holidays.

FOR FURTHER INFORMATION CONTACT: Daniel Humphries, Policy, Training and Oversight Division, Office of Acquisition Management (3802R), Environmental Protection Agency, 1200 Pennsylvania Ave. NW., Washington, DC 20460; telephone number: 202-564-4377; email address: humphries.daniel@epa.gov.

SUPPLEMENTARY INFORMATION:

I. General Information

1. Submitting Classified Business Information (CBI). Do not submit this information to EPA through http://www.regulations.gov or email. Clearly mark the part or all of the information that you claim to be CBI. For CBI information in a disk or CD-ROM that you mail to EPA, mark the outside of the disk or CD-ROM as CBI, and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR Part 2.

2. Tips for Preparing Your Comments. When submitting comments, remember to:

• Identify the rulemaking by docket number and other identifying information (subject heading, Federal Register date and page number).

• Follow directions—The Agency may ask you to respond to specific questions or organize comments by referencing a Code of Federal Regulations (CFR) part or section number.

• Explain why you agree or disagree, suggest alternatives, and substitute language for your requested changes.

• Describe any assumptions and provide any technical information and/or data that you used.

• If you estimate potential costs or burdens, explain how you arrived at your estimate in sufficient detail to allow for it to be reproduced.

• Provide specific examples to illustrate your concerns, and suggest alternatives.

• Explain your views as clearly as possible, avoiding the use of profanity or personal threats.

• Make sure to submit your comments by the comment period deadline identified.

II. Background

EPA is revising the EPAAR to make minor corrections consistent with and non-duplicative of the Federal Acquisition Regulation (FAR) and does not impose any new requirements on Agency contractors. EPA is publishing this rule without a prior proposed rule because the changes are noncontroversial administrative type updates and does not anticipate receiving adverse comments. If EPA receives adverse comment, we will publish a timely withdrawal in the Federal Register informing the public that the rule will not take effect. Any parties interested in commenting must do so at this time.

III. Final Rule

This direct final rule makes the following changes to 48 CFR Parts 1504, 1509, 1511, 1516, 1522, 1523, 1528, and 1552: 1. The authority citation for 48 CFR Parts 1504, 1509, 1511, 1516, 1522, 1523, 1528, and 1552 should read 5 U.S.C. 301; Sec. 205(c), 63 Stat. 390, as amended, 40 U.S.C. 486(c); and 41 U.S.C. 418b. 2. Section 1504.804-5 is amended to update the office name “Financial Analysis and Oversight Service Center” in all instances and revise the reference to Unit 42 of the EPA Acquisition Handbook. 3. Section 1509.1 is removed. 4. Section 1511.011-70 is revised to harmonize the prescription of the basic and Alternate I of the clause prescription. 5. Section 1511.011-73 is revised to harmonize the prescribed types of contracts with the clause prescription. 6. Section 1511.011-74(b) is revised to remove the term “Solicitation provision” and put in its place “Contract Clause.” 7. Section 1511.011-80 is removed. 8. Section 1516.405-272 is amended to update the office title to the “Acquisition Policy and Training Service Center.” 9. Section 1516.406 is revised to update the reference to the current contractor evaluation system to the “Department of Defense Contractor Performance Assessment Reporting System.” 10. Section 1522.1 is removed. 11. Section 1522.6 is removed. 12. Section 1552.804-2 is amended to update the DOL office title to “Office of Federal Contract Compliance Programs.” 13. Section 1523.70 is removed. 14. Revised the title of Part 1528 to “BONDS AND INSURANCE.”15. Section 1528.1 is redesignated as 1528.3. 16. Section 1528.101 is redesignated as 1528.301 and revised the reference of “1552.228-70.” 17. Revised the clause title for 1552.209-74, Alternate IV, to “LIMITATION OF FUTURE CONTRACTING, ALTERNATE IV (ESS)” 18. Section 1552.211-70 is revised to capitalize the term “Contractor” and remove the expiration date of February 28, 2003. 19. Section 1552.211-72(g) is revised to update the terms used in the table. 20. Section 1552.211-74 is revised to update the term “Contracting Officer's Representative,” to add (End of clause) to alternate 1 and capitalize the term “Contractor.” 21. Section 1552.211-76 is revised to update the term “Contracting Officer's Representative.” 22. Section 1552.211-77 is revised to clarify the prescription that both a draft and final report are due and update the term “Contracting Officer's Representative.” 23. Section 1552.211-79 is revised to clarify that 508 refers to accessibility, to remove outdated Agency policy, and update an internet link. 24. Section 1552.211-80 is removed. 25. Section 1552.215-72 paragraph (b) is revised to update the method of proposal submission. 26. Section 1552.216-78, Alternate 1, paragraph (b) is revised to update the contractor evaluation system to the “Department of Defense Contractor Performance Assessment Reporting System (CPARS)''. 27. Section 1552.223-70 is revised to correct the spelling of “applicable.” 28. Section 1552.223-72(c) is amended to provide the internet link: “http://www.aphis.usda.gov/contact_us/”. 29. Section 1552.228-70 prescription reference is updated. 30. 1552.23-70 is amended to remove the words “Project Officer” and add, in their place, the words “Contracting Officer's Representative” in all instances and to correct an administrative formating error with “Alternate l”.

31. 1552.232-74 is amended to add “Contracting Officer's Representative.'' 32. Section 1552.233-70 is amended to remove the term “clause” and replace it with “provision.” 33. Section 1552.237-70 is revised to update the term “Contracting Officer's Representative.” 34. Section 1552.237-71 is revised to update the term “Contracting Officer's Representative.” 35. Section 1552.237-74 is revised to update the term “Contracting Officer's Representative.” 36. Section 1552.239-70 is removed. 37. Section 1552.239-103 is removed. 38. Section 1552.245-70 is amended to remove the duplicate title “Government Property” and to add the effective date of the clause “(Sept 2009)”. 39. Section 1552.245-71 is revised to add the effective date of the clause “(Sept 2009)”. 40. Appendix I to Chapter 15 is removed.

IV. Statutory and Executive Order Reviews

A. Executive Order 12866: Regulatory Planning and Review

This action is not a “significant regulatory action” under the terms of Executive Order (EO) 12866 (58 FR 51735, October 4, 1993) and is therefore, not subject to review under the EO.

B. Paperwork Reduction Act

This action does not impose an information collection burden under the provisions of the Paperwork Reduction Act, 44 U.S.C. 3501 et seq. Burden is defined at 5 CFR 1320.3(b).

C. Regulatory Flexibility Act (RFA), as Amended by the Small Business Regulatory Enforcement Fairness Act of 1996 (SBREFA), 5 U.S.C. 601 et seq.

The RFA generally requires an agency to prepare a regulatory flexibility analysis of any rule subject to notice and comment rulemaking requirements under the Administrative Procedure Act or any other statute, unless the agency certifies that the rule will not have a significant economic impact on a substantial number of small entities. Small entities include small businesses, small organizations, and small governmental jurisdictions.

For purposes of assessing the impact of today's proposed rule on small entities, “small entity” is defined as: (1) A small business that meets the definition of a small business found in the Small Business Act and codified at 13 CFR 121.201; (2) a small governmental jurisdiction that is a government of a city, county, town, school district or special district with a population of less than 50,000; or (3) a small organization that is any not-for-profit enterprise which is independently owned and operated, and is not dominant in its field.

After considering the economic impacts of today's proposed rule on small entities, I certify that this action will not have a significant economic impact on a substantial number of small entities. In determining whether a rule has a significant economic impact on a substantial number of small entities, the impact of concern is any significant adverse economic impact on small entities, because the primary purpose of the regulatory flexibility analyses is to identify and address regulatory alternatives “which minimize any significant economic impact of the proposed rule on small entities” 5 U.S.C. 603 and 604. Thus, an agency may certify that a rule will not have a significant economic impact on a substantial number of small entities if the rule relieves regulatory burden, or otherwise has a positive economic effect on all of the small entities subject to the rule. Since documenting past performance is applicable to large and small entities, this rule will not have a significant economic impact on small entities. We continue to be interested in the potential impacts of the proposed rule on small entities and welcome comments on issues related to such impacts.

D. Unfunded Mandates Reform Act

This rule does not contain a Federal mandate that may result in expenditures of $100 million or more for State, local, and tribal governments, in the aggregate, or the private sector in any one year. Any private sector costs for this action relate to paperwork requirements and associated expenditures that are far below the level established for UMRA applicability. Thus, this rule is not subject to the requirements of sections 202 or 205 of UMRA. This rule is also not subject to the requirements of section 203 of UMRA because it contains no regulatory requirements that might significantly or uniquely affect small governments.

E. Executive Order 13132: Federalism

This action does not have federalism implications. It will not have substantial direct effects on the States, on the relationship between the national government and the States, or on the distribution of power and responsibilities among the various levels of government, as specified in Executive Order 13132. Thus, Executive Order 13132 does not apply to this action. In the spirit of Executive Order 13132, and consistent with EPA policy to promote communications between EPA and State and local governments, EPA specifically solicits comment on this proposed action from State and local officials.

F. Executive Order 13175: Consultation and Coordination With Indian Tribal Governments

This action does not have tribal implications, as specified in Executive Order 13175 (65 FR 67249, November 9, 2000). Thus, Executive Order 13175 does not apply to this action. In the spirit of Executive Order 13175, and consistent with EPA policy to promote communication between EPA and Tribal governments, EPA specifically solicits additional comment on this proposed rule from Tribal officials.

G. Executive Order 13045: Protection of Children From Environmental Health Risks and Safety Risks

EPA interprets EO 13045 (62 FR 19885, April 23, 1997) as applying only to those regulatory actions that concern health or safety risks, such that the analysis required under Section 5-501 of the EO has the potential to influence the regulation. This action is not subject to EO 13045 because it does not establish an environmental standard intended to mitigate health or safety risks.

H. Executive Order 13211: Actions Concerning Regulations That Significantly Affect Energy Supply, Distribution, or Use

This action is not subject to Executive Order 13211 (66 FR 28355 (May 22, 2001)), because it is not a significant regulatory action under Executive Order 12866.

I. National Technology Transfer and Advancement Act of 1995

Section 12(d) of the National Technology Transfer and Advancement Act of 1995 (“NTTAA”), Public Law No. 104-113, section 12(d) (15 U.S.C. 272 note) directs EPA to use voluntary consensus standards in its regulatory activities unless to do so would be inconsistent with applicable law or otherwise impractical. Voluntary consensus standards are technical standards (e.g., materials specifications, test methods, sampling procedures, and business practices) that are developed or adopted by voluntary consensus standards bodies. NTTAA directs EPA to provide Congress, through OMB, explanations when the Agency decides not to use available and applicable voluntary consensus standards.

This proposed rulemaking does not involve technical standards. Therefore, EPA is not considering the use of any voluntary consensus standards.

J. Executive Order 12898: Federal Actions To Address Environmental Justice in Minority Populations and Low-Income Populations.

Executive Order 12898 (59 FR 7629 (Feb. 16, 1994)) establishes federal executive policy on environmental justice. Its main provision directs federal agencies, to the greatest extent practicable and permitted by law, to make environmental justice part of their mission by identifying and addressing, as appropriate, disproportionately high and adverse human health or environmental effects of their programs, policies, and activities on minority populations and low-income populations in the United States. EPA has determined that this proposed rule will not have disproportionately high and adverse human health or environmental effects on minority or low-income populations because it does not affect the level of protection provided to human health or the environment.

K. Congressional Review

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. Section 804 exempts from section 801 the following types of rules (1) rules of particular applicability; (2) rules relating to agency management or personnel; and (3) rules of agency organization, procedure, or practice that do not substantially affect the rights or obligations of non-agency parties. 5 U.S.C. 804(3). EPA is not required to submit a rule report regarding today's action under section 801 because this is a rule of agency organization, procedure, or practice that does not substantially affect the rights or obligations of non-agency parties.

List of Subjects in 48 CFR Parts 1504, 1509, 1511, 1516, 1522, 1523, 1528, and 1552

Government procurement.

Dated: July 16, 2013.
John R. Bashista,
Director, Office of Acquisition Management.

Therefore, 48 CFR Chapter 15 is amended as set forth below:

Authority: 5 U.S.C. 301; Sec. 205(c), 63 Stat. 390, as amended, 40 U.S.C. 486(c); and 41 U.S.C. 418b.

PART 1504—ADMINISTRATIVE MATTERS

1. The authority citation for part 1504 continues to read as follows:

Authority: 5 U.S.C. 301; Sec. 205(c), 63 Stat. 390, as amended, 40 U.S.C. 486(c); and 41 U.S.C. 418b.

1504.804-5 [Amended]

2. Section 1504.804-5 is amended by:

a. Removing the words “cost advisory group at the contracting office” and adding, in its place, the words “Financial Analysis and Oversight Service Center” wherever they appear.

b. Removing the words “Unit 2 of the EPA Acquisition Handbook” and adding, in their place, the words “Unit 42 of the EPA Acquisition Handbook” in the last sentence.

PART 1509—CONTRACTOR QUALIFICATIONS

3. The authority citation for part 1509 continues to read as follows:

Authority: Sec. 205(c), 63 Stat 390, as amended, 40 U.S.C. 486(c).

Subpart 1509.1 [Removed]

4. Remove subpart 1509.1.

PART 1511—DESCRIBING AGENCY NEEDS

5. The authority citation for part 1511 continues to read as follows:

Authority: Sec. 205(c), 63 Stat. 390, as amended, 40 U.S.C. 486(c).

6. Revise section 1511.011-70 to read as follows:

1511.011-70 Reports of work.

Contracting officers shall insert one of the contract clauses at 1552.211-70 when the contract requires the delivery of reports, including plans, evaluations, studies, analyses and manuals. The basic clause should be used when reports are specified in a contract attachment. Alternate I is used to specify reports in the contract schedule.

7. Revise section 1511.011-73 to read as follows:

1511.011-73 Level of effort.

The Contracting Officer shall insert the clause at 1552.211-73, Level of Effort-Cost Reimbursement Term Contract, in cost-reimbursement term contracts including cost contracts without fee, cost-sharing contracts, cost-plus-fixed-fee (CPFF) contracts, cost-plus-incentive-fee contracts (CPIF), and cost-plus-award-fee contracts (CPAF).

1511.011-74 [Amended]

8. Amend section 1511.011-74 by revising the paragraph (b) subject heading to read “Contract clause”.

1511.011-80 [Removed]

9. Remove section 1511.011-80.

PART 1516—TYPES OF CONTRACTS

10. The authority citation for part 1516 continues to read as follows:

Authority: The provisions of this regulation are issued under 5 U.S.C. 301; Sec. 205(c), 63 Stat. 390, as amended, 40 U.S.C. 486(c); and 41 U.S.C. 418b.

1516.405 [Amended]

11. Section 1516.405-272 is amended by removing the words “Procurement Policy Branch” and adding in their place the words “Acquisition Policy and Training Service Center”.

1516.406 [Amended]

12. Amend section 1516.406 in paragraph (d) by removing the words “National Institutes of Health (NIH) Contractor Performance System (CPS)” and adding in their place the words “Department of Defense Contractor Performance Assessment Reporting System”.

PART 1522—APPLICATION OF LABOR LAWS TO GOVERNMENT ACQUISITIONS

13. The authority citation for part 1522 continues to read as follows:

Authority: Sec. 205(c), 63 Stat. 390, as amended, 40 U.S.C. 486(c).

Subpart 1522.1 [Removed]

14. Remove subpart 1522.1.

Subpart 1522.6 [Removed]

15. Remove subpart 1522.6.

1522.804-2 [Amended]

16. Amend section 1552.804-2 by removing the words “Office of Contract Compliance Programs” and adding in their place the words “Office of Federal Contract Compliance Programs”.

PART 1523—ENVIRONMENTAL, CONSERVATION, OCCUPATIONAL SAFETY, AND DRUG-FREE WORKPLACE

17. The authority citation for part 1523 continues to read as follows:

Authority: Sec. 205(c), 63 Stat. 390, as amended, 40 U.S.C. 486(c).

Subpart 1523.70 [Removed]

18. Remove subpart 1523.70.

PART 1528—BONDS OF INSURANCE

19. The authority citation for part 1528 continues to read as follows:

Authority: Sec. 205(c), 63 Stat. 390, as amended, 40 U.S.C. 486(c).

20. The part 1528 heading is revised to read as set forth above.

Subpart 1528.1 [Redesignated as Subpart 1528.3]

21. Redesignate subpart 1528.1 as subpart 1528.3.

1528.101 [Redesignated as 1528.301 and Amended]

22. Redesignate section 1528.101 as 1528.301 and remove the reference “1552,228-70” an add “1552.228-70” in its place.

PART 1552—SOLICITATION PROVISIONS AND CONTRACT CLAUSES

23. The authority citation for part 1552 continues to read as follows:

Authority: 5 U.S.C. 301; Sec. 205(c), 63 Stat. 390, as amended, 40 U.S.C. 486(c); and 41 U.S.C. 418b.

24. Amend section 1552.209-74 by revising Alternate IV, clause heading to read as follows:

1552.209-74 Limitation of future contracting.

* * * * *

LIMITATION OF FUTURE CONTRACTING, ALTERNATE IV (ESS) (SEP 2013)

* * * * *

1552.211-70 [Amended]

25. 1552.211-70 is amended by:

a. In two places, removing the word “contractor” and adding “Contractor” in its place; and

b. In two places, removing the words “with an expiration date of February 28, 2003”.

26. Amend section 1552.211-72 by revising paragraph (g) to read as follows:

1552.211-72 Monthly progress report.

* * * * *

(g) The reports shall be submitted to the following addresses on or before the __ of each month following the first complete reporting period of the contract. See EPAAR 1552.232-70, Submission of Invoices, paragraph (e), for details on the timing of submittals. Distribute reports as follows:

No. of copies | Addressee | Address (email and/or shipping)
| Contracting Officer's Representative. |
| Contracting Officer

(End of clause)

1552.211-74 [Amended]

27. Section 1552.211-74 is amended by:

a. Removing from paragraph (c) the words “Project Officer” and adding in their place the words “Contracting Officer's Representative”;

b. Adding in Alternate I, at the end of the clause, “(End of clause)”; and

c. In four places, removing in Alternate II the word “contractor” and adding “Contractor” in its place.

1552.211-76 [Amended]

28. Amend section 1552.211-76 by removing the words “Project Officer” and adding in their place the words “Contracting Officer's Representative”.

28. Revise 1552.211-77 to read as follows:

1552.211-77 Final reports.

As prescribed in 1511.011-77, insert this contract clause when a contract requires both a draft and a final report.

FINAL REPORTS (SEP 2013)

(a) “Draft Report”__The Contractor shall submit to the Contracting Officer's Representative __ copies of the draft final report on or before ___ (date) __ The Contractor shall furnish to the Contracting Officer a copy of the letter transmitting the draft. The draft shall be double-spaced or space-and-a-half and shall include all pertinent material required in the final report. The Government will review for approval or disapproval the draft and provide a response to the Contractor within __ calendar days after receipt. If the Government does not provide a response within the allotted review time, the Contractor immediately shall notify the Contracting Officer in writing.

(b) “Final Report”—The Contractor shall deliver a final report on or before the last day of the period of performance specified in the contract. Distribution is as follows:

No. of copies | Addressee | Address (email and/or shipping)
1 | EPA Library
1 | Contracting Officer
1 | Contracting Officer's Representative

(End of clause)

29. Amend section 1552.211-79 by:

a. Revising paragraph (c);

b. Removing from the end of paragraph (d), the web link “http://epa.gov/docs/irmpoli8/” and adding in its place the web link “http://epa.gov/docs/irmpoli8/policies/index.html”; and

c. Following paragraph (d) add “(End of clause)”.

The revision reads as follows:

1552.211-79 Compliance with EPA policies for information resources management.

* * * * *

(c) Section 508 requirements (accessibility). Contract deliverables are required to be compliant with Section 508 requirements (accessibility for people with disabilities). The Environmental Protection Agency policy for 508 compliance can be found at www.epa.gov/accessibility.

* * * * *

1552.211-80 [Removed]

30. Remove section 1552.211-80.

31. Amend section 1552.215-72 by revising paragraph (b) introductory text to read as follows:

1552.215-72 Instructions for the Preparation of Proposals.

* * * * *

(b) Cost or pricing proposal instructions. The offeror shall prepare and submit cost or pricing information data and supporting attachments in accordance with Table 15-2 of FAR 15.408. In addition to a hard copy of the information, to expedite review of the proposal, submit an IBM-compatible software or storage device (e.g., USB flash drive or card reader) containing the financial data required, if this information is available using a commercial spreadsheet program on a personal computer. Submit this information using Microsoft Exchange 365, if available. Identify which version of Microsoft Exchange used. If the offeror used another spreadsheet program, indicate the software program used to create this information. Offerors should include the formulas and factors used in calculating the financial data. Although submission of a compatible software or device will expedite review, failure to submit a disk will not affect consideration of the proposal.

* * * * *

32. Amend 1552.216-78, by revising Alternate I paragraph (b) to read as follows:

1552-216.78 Award term incentive plan.

* * * * *

Alternate I * * *

(b) At the conclusion of each contract year, an average contract rating shall be determined by using the numerical ratings entered into the Department of Defense Contractor Performance Assessment Reporting System (CPARS) for this contract. The CPARS is an interactive database located on the Internet which EPA uses to record contractor performance evaluations.

* * * * *

1552.223-70 [Amended]

33. Amend section 1552.223-70 in the second sentence in paragraph (a) by removing ”appliable” and adding in its place “applicable”.

1552.223-72 [Amended]

34. Amend section 1552.223-72 in paragraph (c) by removing from the last sentence the words “by contacting the Senior Veterinary, Animal Care Staff, USDA/APHIS, Federal Center Building, Hyattsville, MD 20782” and adding in their place the words “at http://www.aphis.usda.gov/contact_us/”.

35. Amend section 1552.228-70 by revising the introductory text to read as follows:

1552.228-70 Insurance liability to third persons.

As prescribed in 1528.301, insert the following clause:

* * * * *

1552.232-70 [Amended]

36. Amend section 1552.23-70 by:

a. In two places in paragraph (a) by removing the words “Project Officer” and adding in their place the words “Contracting Officer's Representative”.

b. In paragraph (e)(3), separate the last sentence to establish the rest of the section (paragraphs (c)(1) and (2)) as Alternate I.

c. Add “(End of clause)” following paragraph (e)(3) and before Alternate I.

1552.232-74 [Amended]

37. Amend section 1552.232-74 by removing the words “project officer” and adding in their place the words “Contracting Officer's Representative”.

1552.233-70 [Amended]

38. Amend section 1552.233-70 in the introductory text by removing the word “clause” and adding in its place the word “provision”.

1552.237-70 [Amended]

39. Amend section 1552.237-70 by removing the words “Project Officer” and adding in their place the words “Contracting Officer's Representative” wherever they appear in paragraphs (b) and (c)(1) and (3).

1552.237-71 [Amended]

40. Amend section 1552.237-71 by removing the words “contracting officer technical representative” and adding in their place the words “Contracting Officer's Representative” in paragraphs (b) introductory text, (c) introductory text, (d), (e) introductory text, and (g).

1552.237-74 [Amended]

41. Amend section 1552.237-74 in the introductory text and paragraph (a) by removing the words “Project Officer” and adding in their place the words “Contracting Officer's Representative”.

1552.239-70 [Removed]

42. Remove section 1552.239-70.

1552.239-103 [Removed]

43. Remove section 1552.239-103.

1552.245-70 [Amended]

45. Amend section 1552.245-70 in the clause heading by removing the first occurrence of the words “Government Property” and to adding “(Sept 2009)” after the second occurrence.

1552.245-71 [Amended]

46. Amend section 1552.245-71 by adding “(Sept. 2009)” after the clause heading.

Appendix I to Chapter 15 [Removed]

47. Remove Appendix I to Chapter 15.

[FR Doc. 2013-18037 Filed 7-30-13; 8:45 am]

BILLING CODE 6560-50-P